DEPARTMENT OF LABOR

Employment and Training Administration

[TA-W-71,175; TA-W-71,175A]

Resinoid Engineering Corporation Hebron, OH; Resinoid Engineering Corporation Heath, OH; Amended Certification Regarding Eligibility To Apply for Worker Adjustment Assistance

In accordance with Section 223 of the Trade Act of 1974, as amended (“Act”), 19 U.S.C. 2273, the Department of Labor issued a Certification of Eligibility to apply for Worker Adjustment Assistance on January 25, 2010, applicable to workers of Resinoid Engineering Corporation, Hebron, Ohio. The notice was published in the Federal Register March 5, 2010 (75 FR 10323).

At the request of the State Agency, the Department reviewed the certification for workers of the subject firm. The workers are engaged in activities related to the production of custom molded plastic components.

New findings show that the Heath, Ohio location of Resinoid also experienced an employment decline during the relevant period. Workers at the Heath, Ohio facility produce commutators and are not separately identifiable from the workers at the Hebron facility. These workers directly support the Hebron, Ohio facility of the subject firm.

Accordingly, the Department is amending the certification to cover workers at the Heath, Ohio location of Resinoid.

The intent of the Department's certification is to include all workers of Resinoid who were adversely affected by the loss in sales to a TAA certified firm.

The amended notice applicable to AT-W-71,175 is hereby issued as follows:

All workers of Resinoid Engineering Corporation, Hebron, Ohio (TA-W-71,175) and Heath, Ohio (TA-W-71,175A) who became totally or partially separated from employment on or after June 4, 2008 through January 25, 2012, and all workers in the group threatened with total or partial separation from employment on the date of certification through two years from the date of certification, are eligible to apply for adjustment assistance under Chapter 2 of Title II of the Trade Act of 1974, as amended.

Signed in Washington, DC, this day of April 2010.
Elliott S. Kushner,
Certifying Officer, Division of Trade Adjustment Assistance.

[FR Doc. 2010-8887 Filed 4-16-10; 8:45 am]

BILLING CODE 4510-FN-P